OFFICE OF MANAGEMENT AND BUDGET

Initial Proposals For Updating OMB's Race and Ethnicity Statistical Standards

AGENCY: Office of Information and Regulatory Affairs, Office of Management and Budget, Executive Office of the President.

ACTION: Notice and request for comments.

SUMMARY: The Office of Management and Budget (OMB) requests comments on the initial proposals from the Federal Interagency Technical Working Group on Race and Ethnicity Standards (Working Group) for revising OMB's 1997 Statistical Policy Directive No. 15: Standards for Maintaining, Collecting, and Presenting Federal Data on Race and Ethnicity (SPD 15).¹ Responses to this Notice will be shared with the Working Group and will help the Working Group develop their final recommendations to OMB and will also help OMB determine how to revise SPD 15 to improve the quality and usefulness of Federal race and ethnicity data.

¹ 62 FR 58723 (Oct. 20, 1997), available at https://www.govinfo.gov/content/pkg/FR-1997-10-30/pdf/97-28653.pdf.

DATES: Comments must be provided in writing to OMB no later than 75 days from the publication of this notice to ensure consideration during the final decision-making process.

ADDRESSES: Please submit comments via http://www.regulations.gov, a Federal website that allows the public to find, review, and submit comments on documents that agencies have published in the Federal Register and that are open for comment. Simply type “OMB-2023-0001” in the Comment or Submission search box, click Go, and follow the instructions for submitting comments.

Comments submitted in response to this notice are subject to the Freedom of Information Act and may be made available to the public. For this reason, please do not include any information of a confidential nature, such as sensitive personal information or proprietary information. If you submit your email address, it will be automatically captured and included as part of the comment that is placed in the public docket. Please note that responses to this public comment request containing any routine notice about the confidentiality of the communication will be treated as public comments that may be made available to the public notwithstanding the inclusion of the routine notice.

Electronic Availability: This document is available on the internet at http://www.regulations.gov.

FOR FURTHER INFORMATION CONTACT: Bob Sivinski, Chair, Interagency Technical Working Group on Race and Ethnicity Standards, 1650 17th St. NW, Washington, DC 20500, email address: Statistical_Directives@omb.eop.gov.

SUPPLEMENTARY INFORMATION:

A. Background

Functions of the Chief Statistician of the United States: To operate efficiently and effectively, the Nation relies on the flow of objective, credible statistics to support the decisions of individuals, households, governments, businesses, and other organizations.

As part of its role as coordinator of the Federal statistical system under the Paperwork Reduction Act, OMB, through the Chief Statistician of the United States, must ensure the efficiency and effectiveness of the system as well as the integrity, objectivity, impartiality, utility, and confidentiality of information collected for statistical purposes. ² This statute also charges OMB with developing and overseeing the implementation of Government-wide principles, policies, standards, and guidelines concerning the development, presentation, and dissemination of statistical information.³

² 44 U.S.C. 3504(e)(1).

³ 44 U.S.C. 3504(e)(3).

OMB maintains a set of statistical policy directives to implement these requirements. OMB's established process for updating existing statistical policy directives includes technical evaluation of the current standard by an interagency working group composed of career Federal subject matter experts; additional technical research, testing, and analysis to close identified gaps; and solicitation and consideration of public comment on ways to improve the standard. The final decisions regarding any changes to the standards are made by OMB.

This Federal Register Notice is part of OMB's current review ⁴ of SPD 15. It requests comments on the initial proposals from the Federal Interagency Technical Working Group on Race and Ethnicity Standards (Working Group). Responses to this Notice will help the Working Group develop their final recommendations to OMB and will also help OMB determine how to revise SPD 15 to improve the quality and usefulness of Federal race and ethnicity data.

⁴ See Reviewing and Revising Standards for Maintaining, Collecting, and Presenting Federal Data on Race and Ethnicity, June 15, 2022, https://www.whitehouse.gov/omb/briefing-room/2022/06/15/reviewing-and-revising-standards-for-maintaining-collecting-and-presenting-federal-data-on-race-and-ethnicity/.

History of SPD 15: OMB initially developed SPD 15 in 1977, in cooperation with other Federal agencies, to provide consistent data on race and ethnicity (when aggregated to the minimum reporting categories) throughout the Federal Government, including the decennial census, household surveys, and Federal administrative forms (e.g., benefit application forms). Initial development of this data standard stemmed in large part from Federal responsibilities to enforce civil rights laws. Since 1977, SPD 15 has been revised one time, resulting in the 1997 Standards for Maintaining, Collecting, and Presenting Federal Data on Race and Ethnicity.

The Goals of SPD 15: The goals of SPD 15 are to ensure the comparability of race and ethnicity across Federal datasets and to maximize the quality of that data by ensuring that the format, language, and procedures for collecting the data are consistent and based on rigorous evidence. To achieve these goals, SPD 15 provides a minimum set of categories that all Federal agencies must use if they intend to collect information on race and ethnicity, regardless of the collection mechanism (e.g., Federal surveys versus program benefit applications).

The 1997 Standards (Current Standards): For data collected directly from respondents, the current standards require two separate race and ethnicity questions, with the ethnicity question collected first before the race question.

• For the question “Are you Hispanic or Latino?”, the minimum reporting categories are:

1. Hispanic or Latino: A person of Cuban, Mexican, Puerto Rican, Cuban ⁵, South or Central American, or other Spanish culture or origin, regardless of race. The term, “Spanish origin,” can be used in addition to “Hispanic or Latino.”

⁵ SPD 15 currently lists “Cuban” two times.

2. Not Hispanic or Latino

Note that Hispanic or Latino respondents may be of any race, and multiple responses to the ethnicity question are not permitted.

• For the question and instructions “What is your race? <`Mark' or `Select'> one or more”, the minimum reporting categories are:

1. American Indian or Alaska Native: A person having origins in any of the original peoples of North and South America (including Central America), and who maintains tribal affiliation or community attachment.

2. Asian: A person having origins in any of the original peoples of the Far East, Southeast Asia, or the Indian subcontinent including, for example, Cambodia, China, India, Japan, Korea, Malaysia, Pakistan, the Philippine Islands, Thailand, and Vietnam.

3. Black or African American: A person having origins in any of the black racial groups of Africa. Terms such as “Haitian” or “Negro” can be used in addition to “Black or African American.”

4. Native Hawaiian or Other Pacific Islander: A person having origins in any of the original peoples of Hawaii, Guam, Samoa, or other Pacific Islands.

5. White: A person having origins in any of the original peoples of Europe, the Middle East, or North Africa.

The 1997 revision of SPD15 gave respondents the opportunity to report multiple races.

Example Question Format: Based on the requirements in the current standards, Figure 1 illustrates how race and ethnicity questions typically appear on Federal surveys and forms that collect the minimally required categories directly from individuals.

Self-Identification vs. Observed Race and Ethnicity: The 1997 standards emphasize that self-identification using separate race and ethnicity questions is the preferred means of obtaining information about an individual's race and ethnicity. However, 1997 standards allow using a combined race and ethnicity question format where observer identification is the only or most feasible collection mode.

Collection of More Detailed Data: The 1997 standards encourage the collection of more detailed information provided that any detailed groups can be aggregated to the minimum standard categories necessary to facilitate comparison of data generated from information collections of varying detail. For example, the Household Pulse Survey ⁶ conducted by the U.S. Census Bureau offers respondents several additional options for racial and ethnic identification that can be “rolled up” to the minimum categories in the standards.

⁶ https://www2.census.gov/programs-surveys/demo/technical-documentation/hhp/Phase_36_Household_Pulse_Survey_ENGLISH.pdf.

How the 1997 Standards Define Race and Ethnicity: The categories developed represent a sociopolitical construct designed to be used in the self-reported or observed collection of data on the race and ethnicity of major broad population groups in this country and are not biologically or genetically based.

The 1997 standards' minimum categories do not identify or designate certain population groups as “minority groups.” Additionally, the standards state that these categories are not to be used for determining the eligibility of population groups for participation in any Federal programs.

Some Other Race: Under the 1997 standards, data collections by Federal agencies may not include a Some Other Race (SOR) response category unless required by statute. Since 2005, the decennial census and American Community Survey (ACS) are required by law ⁷ to include a SOR category, thereby adding a sixth minimum race category for these collections. The decennial census and ACS are the only information collections with a statutory requirement for the use of a SOR category.

⁷ See Science, State, Justice, Commerce, and Related Agencies Appropriations Act, 2006, Public Law 109-108, tit. II, 119 Stat. 2290, 2308-09 (2005), available at https://www.congress.gov/bill/109th-congress/house-bill/2862.

B. The Current Review of SPD 15

The Need to Update SPD 15: OMB undertakes periodic reviews of its Federal statistical standards to ensure that they are keeping pace with changes in the population and evolving needs and uses for data. Federal race and ethnicity standards are inherently complex because they seek to capture dynamic and fluid sociopolitical constructs. Over the nearly 25 years since SPD 15 was revised there have been large societal, political, economic, and demographic shifts in the United States throughout this period, for example:

• Increasing racial and ethnic diversity;

• A growing number of people who identify as more than one race or ethnicity; and

• Changing immigration and migration patterns.

Federal Interagency Technical Working Group on Race and Ethnicity Standards: In 2022, OMB convened the Federal Interagency Technical Working Group on Race and Ethnicity Standards (Working Group).⁸ Consistent with the established OMB process discussed above, the Working Group comprises Federal career staff who represent programs that collect or use race and ethnicity data. The agencies on the Interagency Council on Statistical Policy, i.e., the 13 Principle Statistical Agencies; ⁹ and the 24 agencies enumerated by the Chief Financial Officers Act; ¹⁰ as well as one additional agency selected for its reliance on race and ethnicity data, the U.S. Equal Employment Opportunity Commission, were invited to nominate representatives to the Working Group.

⁸ OMB convened this group under its authorities in 44 U.S.C. 3504(e),

⁹ See 44 U.S.C. 3504(e)(8).

¹⁰ See 31 U.S.C. 901(b).

OMB charged the Working Group with providing recommendations on topics including, but not limited to:

• Whether the minimum reporting categories should be changed and how to best address detailed race and ethnicity groups in the standards;

• Whether updates should be made to the question format, terminology, and wording of the questions, as well as the instructions for respondents and associated guidance; and

• Whether guidance for the collection and reporting of race and ethnicity data can be improved, including in instances when self-identification is not possible.

The Working Group assessed the work by the previous 2014-2018 Federal Interagency Working Group for Research on Race and Ethnicity,¹¹ existing Federal Government research,¹² experiences from the 2020 Census,¹³ and the work of the Interagency Working Group on Equitable Data pursuant to Executive Order 13985.¹⁴ Additionally, the Working Group is also relying on input from the public to help with identifying needs and uses for data. On August 30, OMB announced the start of virtual, bi-monthly listening sessions to hear directly from members of the public.¹⁵ These listening sessions began in September 2022 and are expected to continue in 2023. Although most of these sessions did not take place in time to inform the initial proposals in this FRN, the information presented in the sessions is currently being assessed by the Working Group and will inform their work as they develop final recommendations for OMB. The major themes of the comments heard during the first several months of these listening sessions are described below.

¹¹ See Office of Mgmt. & Budget, Exec. Office of the President, Standards for Maintaining, Collecting, and Presenting Federal Data on Race and Ethnicity, 81 R 67398 (Sept. 30, 2016), available at https://www.federalregister.gov/documents/2016/09/30/2016-23672/standards-for-maintaining-collecting-andpresenting-federal-data-on-race-and-ethnicity; Office of Mgmt. & Budget, Exec. Office of the President, Proposals From the Federal Interagency Working Group for Revision of the Standards for Maintaining, Collecting, and Presenting Federal Data on Race and Ethnicity, 82 FR 12242 (Mar. 1, 2017), available at https://www.federalregister.gov/documents/2017/03/01/2017-03973/proposals-from-the-federal-interagencyworking-group-for-revision-of-the-standards-for-maintaining.

¹² https://www.census.gov/programs-surveys/decennial-census/decade/2020/planning-management/plan/final-analysis/2015nct-race-ethnicity-analysis.html; https://wwwn.cdc.gov/qbank/report/Willson_2017_NCHS_MENA.pdf.

¹³ https://www.census.gov/library/stories/2021/08/improved-race-ethnicity-measures-reveal-united-states-population-much-more-multiracial.html.

¹⁴ https://www.whitehouse.gov/wp-content/uploads/2022/04/eo13985-vision-for-equitable-data.pdf.

¹⁵ OMB Launches New Public Listening Sessions on Federal Race and Ethnicity Standards Revision, August 30, 2022, https://www.whitehouse.gov/omb/briefing-room/2022/08/30/omb-launches-new-public-listening-sessions-on-federal-race-and-ethnicity-standards-revision/.

Major Themes From Initial Public Listening Sessions

• Data Disaggregation for the Black or African American Population

• Presenters supported adding detailed categories for the Black or African American minimum reporting category to allow for identification for descendants of enslaved Americans, with most presenters requesting a new detailed category such as “American Freedman” or “American Descendant of Slavery.”

• Disaggregated data could be used to allocate program or initiative benefits.

• Data Disaggregation for Race and Ethnicity, General

• Presenters supported collecting more granular data to better understand within-group disparities (e.g., collecting disaggregated data for the Asian population, for example “Japanese”, “Hmong”, “Cambodian”, allows for better understanding existing socio-economic and health disparities and determining specific community needs).

• Presenters suggested that including detailed racial and ethnic categories on questionnaires is more inclusive and allows respondents to report their identities more easily.

• Race and Ethnicity Questions Format

• Some presenters supported a combined race and ethnicity question stating that, for example, respondents do not understand a distinction between “race” and “ethnicity” and that the separate questions format has contributed to the rise of the “Some Other Race” population in the decennial census; additionally, some presenters showed their own research findings that a more successful design was a combined race and ethnicity question with descriptive options and allowing for multiple selections.

• Additional presenters advised against a combined race and ethnicity question, expressing concern that race data for the Hispanic or Latino population may be lost (e.g., some presenters worry that the Black or African American population in Puerto Rico may only select “Hispanic or Latino” and not “Black or African American” in a combined question format, even with the instruction of “Select all that apply”)

• Middle Eastern or North African Category

• Presenters advocated for the Middle Eastern or North African (MENA) population to be recognized and respected by becoming a new and distinct minimum reporting category because, for example, many in the MENA community do not share the same lived experience as White people with European ancestry, do not identify as White, and are not perceived as White by others.

• The addition of a distinct MENA minimum reporting category would recognize this community (e.g., MENA population counts could be used to allocate needed resources).

• Collecting and Reporting Data for the Multiracial/Ethnic Population

• Presenters recommended that SPD 15 permit the reporting and tabulation of multiple Hispanic or Latino responses (e.g., producing data from respondents who are both “Cuban” and “Dominican,” “Mexican” and “Puerto Rican,” etc).

• While some presenters advocated for a “multiracial” checkbox, other presenters opposed it expressing concern that detailed information about which specific racial and ethnic groups an individual identifies with may be lost.

Governing Principles of the Working Group: In the deliberations leading to the 1977 and the 1997 race and ethnicity standards, principles were established to guide interagency consideration. For this current review, the Working Group adopted the following principles to guide their work.

1. Race and ethnicity are socio-political constructs. For purposes of these standards, the race and ethnicity categories set forth are sociopolitical constructs and are not an attempt to define race and ethnicity biologically or genetically.

2. Respect individuals. Respect for individual dignity should guide the processes and methods for collecting data on race and ethnicity; respondent self-identification should be facilitated to the greatest extent possible.

3. Clear concepts and terminology. To the extent practicable, the concepts and terminology should reflect clear and generally understood definitions that can achieve broad public acceptance.

4. Comprehensive categories. The racial and ethnic categories should be comprehensive in coverage and produce compatible, non-duplicated, exchangeable data across Federal agencies.

5. Consider useful data aggregations. Foremost consideration should be given to data aggregations by race and ethnicity that are useful for statistical analysis, program administration and assessment, and enforcement of existing laws and judicial decisions—bearing in mind that the standards are not intended to be used to establish eligibility for participation in any Federal program.

6. Consider State/local government data needs. While Federal needs for racial and ethnic data are of primary importance, consideration should also be given to needs at the State and local government levels, including American Indian tribal and Alaska Native village governments, as well as to general societal needs for these data.

7. Standards set forth minimum categories. The standards should set forth minimum categories; additional categories should be encouraged, provided they can be aggregated to the minimum categories. The number of minimum categories should be kept to a manageable size, as determined by statistical concerns and data needs.

8. Consider operational feasibility. A revised set of categories should be operationally feasible in terms of burden placed upon respondents and the cost to agencies and respondents to implement the revisions.

9. Category changes are based on sound research. Any changes in the categories should be based on sound methodological research and should include evaluations of the impact of any changes not only on the usefulness of the resulting data but also on the comparability of any new categories with the existing ones.

10. Category revisions require a crosswalk. Any revision to the categories should provide for a crosswalk at the time of adoption between the old and the new categories so that historical data series can be statistically adjusted and comparisons can be made.

11. Changes are based upon an interagency collaborative effort. Because of the many and varied needs, and strong interdependence, of Federal agencies for racial and ethnic data, any changes to the existing categories should be the product of an interagency collaborative effort.

12. All racial and ethnic categories should adhere to public law. All racial and ethnic categories, both established and potential, should be reviewed and constructed in a manner that adheres to public law.

C. Initial Proposals for Comment

OMB requests comments on these initial Working Group proposals. Note that these proposals are preliminary and do not reflect the settled opinions of the Working Group, the position of OMB, or the positions of the agencies participating on the Working Group. The Working Group will continue to deliberate, assess evidence, and take into consideration comments received from the public before making final recommendations for OMB's consideration.

1. Collect race and ethnicity information using one combined question. The Working Group proposes that SPD 15 move from the two separate questions format to a single combined question as the required design for self-reported race and ethnicity information collections. Employing a new combined question design may take significant time and resources for some surveys and information collections to implement. Flexibilities should be allowed for agencies dependent on aggregate data, data that are not self-reported, or data from non-Federal providers.

a. Background: Evidence suggests that the use of separate race and ethnicity questions confuses many respondents who instead understand race and ethnicity to be similar, or the same, concepts. For example, a large and increasing percentage of Hispanic or Latino respondents on the decennial census and American Community Survey (ACS) over the past several decades are either not reporting a race or are selecting Some Other Race (SOR); this is after responding to the ethnicity question, which SPD 15 requires to be collected first and separately. Decennial census and ACS research found that a combined race and ethnicity question reduces confusion and reduces SOR reporting by Hispanic or Latino respondents. However, less is known about the comparisons of separate questions versus combined question approaches for information collections without a SOR response option.

b. OMB Requests Public Comment On:

1a. Please provide links or references to relevant studies that examine or test any impacts of collecting race and ethnicity information using separate questions compared to a combined question.

1b. To what extent would a combined race and ethnicity question that allows for the selection of one or more categories impact people's ability to self-report all aspects of their identity?

1c. If a combined race and ethnicity question is implemented, what suggestions do you have for addressing challenges for data collection, processing, analysis, and reporting of data?

1d. What other challenges should we be aware of that respondents or agencies might face in converting their surveys and forms to a one question format from the current two-question format?

2. Add “Middle Eastern or North African” (MENA) as a new minimum category. The working Group proposes that “Middle Eastern or North African” be added to SPD 15 as a new minimum reporting category distinct from all other reporting categories. The definition of the current “White” reporting category would be edited to remove MENA from its definition.

a. Background: Currently in SPD 15, the “White” minimum category specifically includes in its definition those having origins in any of the original peoples of the Middle East or North Africa. Research suggests that many MENA respondents view their identity as distinct from White, and stakeholders have, for over 30 years, advocated for collecting MENA information separate from White.

The Working Group developed the following draft definition of a MENA minimum category to be inclusive of both Middle Eastern and North African populations and with the rationale of listing larger population groups in the U.S.: The category “Middle Eastern or North African” includes all individuals who identify with one or more nationalities or ethnic groups with origins in the Middle East and North Africa. Examples include, but are not limited to, Lebanese, Iranian, Egyptian, Syrian, Moroccan, and Israeli.

b. OMB Requests Public Comment On:

2a. Given the particular context of answering questionnaires in the U.S. (e.g., decennial census, Federal surveys, public benefit forms), is the term “Middle Eastern or North African (MENA)” likely to continue to be understood and accepted by those in this community? Further, would the term be consistently understood and acceptable among those with different experiences, i.e., those born in the U.S., those who immigrated but have lived for an extensive period of time in the U.S., and those who have more recently immigrated to the U.S.?

2b. Do these proposed nationality and ethnic group examples adequately represent the MENA category? If not, what characteristics or group examples would make the definition more representative?

2c. Would this proposed definition allow the generation of statistics necessary to track the experience and wellbeing of the MENA population?

3. Require the collection of detailed race and ethnicity categories by default. The Working Group proposes that SPD 15 require data collection on race and ethnicity at the detailed category levels, as specified by the example in Figure 2, unless an agency determines that the potential benefit of the detailed data would not justify the additional burden to the agency and the public or the additional risk to privacy or confidentiality. In those cases, agencies must at least use the SPD 15's minimum categories, as specified by the example in Figure 3. In any circumstance, agencies are encouraged to collect and provide more granular data than the minimum categories.

The example design in Figure 2 represents one of potentially several options for establishing a consistent approach to collecting more detailed data, with the minimum categories disaggregated by country of origin. This example was chosen by the Working Group because it reflects the approach that performed best of the options tested by the Census Bureau prior to the 2020 Census. The country of origin options reflect the most common countries of origin in the U.S. for each minimum category. This example includes enhancements that reflect other Working Group initial proposals (e.g., the category “Native Hawaiian or Other Pacific Islander” removes the word “Other”). Refer to page 30 of 2020 Research and Testing: 2017 Census Test Report—Tribal Enrollment: https://www2.census.gov/programs-surveys/decennial/2020/program-management/census-tests/2017/2017-census-test-report_tribal-enrollment.pdf.

The example design in Figure 3 represents the Working Group's proposed minimum categories, for use when more detailed collection is not feasible or justified. It incorporates other proposals from the Working Group to use a combined race and ethnicity question and to add a new minimum category for MENA.

a. Background: The minimum categories in SPD 15 contain heterogeneity, as evidenced by differences in a wide variety of outcomes for distinct groups within their definitions. The increasing demand for analysis that represents the diversity of the American public increases the need for race and ethnicity information disaggregated beyond—or more granular than—SPD 15's minimum categories. The collection of disaggregated information already occurs in many circumstances; for example, some current information collections use detailed checkboxes and/or write-in fields to collect detailed race and ethnicity data. Figure 2 shows an example approach for collecting more detail beyond the minimum categories.

However, collecting data using only the minimum categories may be necessary when, for example, low response rates among population groups of interest lead to non-representative data, small sample sizes make estimates about disaggregated groups statistically unreliable, data is collected by proxy, or small cell sizes in data analyses and publications create privacy and confidentiality risks.

b. OMB Requests Public Comment On:

3a. Is the example design seen in Figure 2 inclusive such that all individuals are represented?

3b. The example design seen in Figure 2 collects additional detail primarily by country of origin. What other potential types of detail would create useful data or help respondents to identify themselves?

3c. Some Federal information collections are able to use open-ended write-in fields to collect detailed racial and ethnic responses, while some collections must use a residual closed-ended category (e.g., “Another Asian Group”). What are the impacts of using a closed-ended category without collecting further detail through open-ended written responses?

3d. What should agencies consider when weighing the benefits and burdens of collecting or providing more granular data than the minimum categories?

3e. Is it appropriate for agencies to collect detailed data even though those data may not be published or may require combining multiple years of data due to small sample sizes?

3f. What guidance should be included in SPD 15 or elsewhere to help agencies identify different collection and tabulation options for more disaggregated data than the minimum categories? Should the standards establish a preferred approach to collecting additional detail within the minimum categories, or encourage agencies to collect additional information while granting flexibility as to the kind of information and level of detail?

3g. Is the current “default” structure of the recommendation appropriate? Should SPD-15 pursue a more voluntary approach to the collection of disaggregated data, as opposed to having a default of collecting such data unless certain conditions are met?

3h. What techniques are recommended for collecting or providing detailed race and ethnicity data for categories with smaller population sizes within the U.S.?

4. Update Terminology in SPD 15. The working Group proposes that SPD 15 make the following changes in regards to terminology:

Terminologies Used Within Minimum Categories

• The Working Group proposes that SPD 15 remove:

—“Negro” from the Black or African American definition

—“Far East” from the Asian definition, replacing with “East Asian”

—“Other” from “Native Hawaiian and Other Pacific Islander”

—The phrase “who maintain tribal affiliation or community attachment” in the American Indian or Alaska Native definition, making this minimum category's definition consistent with all minimum categories

• The Working Group proposes that SPD 15 correct “Cuban” being listed twice in the minimum category definition for “Hispanic or Latino.”

• The Working Group proposes that the American Indian or Alaska Native minimum category description be changed to: “The category `American Indian or Alaska Native' includes all individuals who identify with any of the original peoples of North, Central, and South America.”

“Majority/Minority”

• The Working Group proposes that SPD 15 discontinue use of the terms “majority” and “minority.”

Question Stem and Instructions

• The Working Group proposes that if a combined race and ethnicity question is adopted, the question stem use “race” and “ethnicity” as part of the question, i.e., “What is < your/name's > race or ethnicity?”

• The Working Group proposes that the current instructions of “Mark < X > one or more” and “Select < X > one or more” be updated to “Mark all that apply” and “Select all that apply.”

a. Background: The terminology used in SPD 15 should seek to ensure that all people are able to identify themselves within one or more of the minimum categories, that the minimum and detailed categories reflect meaningful and easy to understand distinctions, and that the language used is respectful of how people refer to themselves. In the current SPD 15 the minimum category definitions are internally inconsistent in their descriptions, and in some places use outdated or unclear terminology. Recent research shows inconsistent understanding and use of the terms “majority” and “minority,” and that the terms may be perceived by some as pejorative and not inclusive. Decennial census and ACS research suggests that some respondents are confused by the distinction between the terms “race,” “ethnicity,” and “origin” used in question stems. The research also suggests that some respondents stop reading the instructions “mark one or more” after the word “one.”

b. OMB Requests Public Comment On:

4a. What term (such as “transnational”) should be used to describe people who identify with groups that cross national borders (e.g., “Bantu,” “Hmong,” or “Roma”)?

1. If a combined race and ethnicity question is implemented, what term should be used for respondents who select more than one category? For example, is the preferred term “multiracial,” “multiethnic,” or something else?

2. Please refer to Section D, Previously Tested Definitions of Minimum Categories. Are these draft definitions:

i. Comprehensive in coverage of all racial and ethnic identities within the U.S.?

ii. Using equivalent criteria?

iii. Reflective of meaningful distinctions?

iv. Easy to understand?

v. Respectful of how people refer to themselves?

Please suggest any alternative language that you feel would improve the definitions.

4b. As seen in Figure 2, based on the Working Group's initial proposal, the question stem asks “What is your race or ethnicity?” Do you prefer a different question stem such as: “What is your race and/or ethnicity?”, “What is your race/ethnicity?”, “How do you identify?”, etc.? If so, please explain.

5. Guidance is necessary to implement SPD 15 revisions on Federal information collections. The Working Group proposes that SPD 15 and its related documents be placed online in a central location and include implementation guidance on:

• The dates agencies must meet as they incorporate revisions to information collections,

• Statistical methods to connect data produced from previous and revised collection formats (e.g., bridging between data collected via two questions without MENA and data collected via one question with MENA),

• Procedures for collecting, processing, and reporting detailed racial and ethnic categories,

• Approaches for collecting race and ethnicity information when self-identification is not possible, i.e., data collected by a proxy or observation and/or by entities outside of SPD 15's purview (e.g., State or local governments, hospitals, or schools),

• Approaches for reporting data for respondents who select more than one race or ethnicity. Specifically, guidance is needed on how to balance providing detailed information, for example by including all possible combinations of multiple responses, and providing a single category when needed (e.g., “multiracial”),

• Guidance on obtaining approval under the Paperwork Reduction Act ¹⁶ to revise existing race and ethnicity data collections, and

¹⁶ https://www.reginfo.gov/public/reginfo/pra.pdf.

• Best practices for agencies to rely on when communicating SPD 15 revisions to stakeholders.

a. Background: It is a large undertaking for agencies to implement changes to censuses, surveys, and administrative forms that collect race and ethnicity data. Agencies need guidance to implement any potential SPD 15 revisions like those included in the Working Group's initial proposals.

b. OMB Requests Public Comment On:

5a. For data providers who collect race and ethnicity data that is then sent to a Federal agency, are there additional guidance needs that have not been addressed in the initial proposals?

5b. With the proposals to use a combined race and ethnicity question and to add MENA as a minimum category, what specific bridging concerns do Federal data users have? Please submit any research on bridging techniques that may be helpful to the Working Group. Bridging refers to making data collected using one set of categories (e.g., two questions without MENA), consistent with data collected using a different set of categories (e.g., one question with MENA).

5c. What guidance on bridging should be provided for agencies to implement potential revisions to SPD 15?

5d. How should race and ethnicity be collected when some method other than respondent self-identification is necessary (e.g., by proxy or observation)?

5e. What guidance should be provided for the collection and reporting of race and ethnicity data in situations where self-identification is unavailable?

6. Comments On Any Additional Topics and Future Research.

6a. SPD 15 does not dictate the order in which the minimum categories should be displayed on Federal information collections. Agencies generally order alphabetically or by population size; however, both approaches have received criticism. What order, alphabetical or by population size, do you prefer and why? Or what alternative approach would you recommend?

6b. The current ¹⁷ minimum categories are termed:

¹⁷ A similar question specifically related to Middle Eastern or North African is discussed earlier in Section C.

• American Indian or Alaska Native

• Asian

• Black or African American

• Hispanic or Latino

• Native Hawaiian or Other Pacific Islander ¹⁸

¹⁸ An initial proposal of the Working Group, discussed earlier in Section C, is to remove “Other” from “Native Hawaiian or Other Pacific Islander.”

• White

Do you have suggestions for different terms for any of these categories?

6c. How can Federal surveys or forms collect data related to descent from enslaved peoples originally from the African continent? For example, when collecting and coding responses, what term best describes this population group (e.g., is the preferred term “American Descendants of Slavery,” “American Freedmen,” or something else)? How should this group be defined? Should it be collected as a detailed group within the “Black or African American” minimum category, or through a separate question or other approach?

6d. The proposals in this FRN represent the Working Group's initial suggestions for revisions to SPD 15 to improve the accuracy and usefulness of Federal race and ethnicity data. The Working Group and OMB welcome comments and suggestions on any other ways that SPD 15 could be revised to produce more accurate and useful race and ethnicity data.

D. Previously Tested Definitions of Minimum Categories

• American Indian or Alaska Native: The category “American Indian or Alaska Native” includes all individuals who identify with any of the original peoples of North, Central, and South America. It includes people who identify as “American Indian” or “Alaska Native” and includes groups such as Navajo Nation, Blackfeet Tribe, Mayan, Aztec, Native Village of Barrow Inupiat Traditional Government, Tlingit, etc.

• Asian: The category “Asian” includes all individuals who identify with one or more nationalities or ethnic groups originating in East Asia, Southeast Asia, or the Indian subcontinent. Examples of these groups include, but are not limited to, Chinese, Filipino, Asian Indian, Vietnamese, Korean, and Japanese. The category also includes groups such as Pakistani, Cambodian, Hmong, Thai, Bengali, Mien, etc.

• Black or African American: The category “Black or African American” includes all individuals who identify with one or more nationalities or ethnic groups originating in any of the Black racial groups of Africa. Examples of these groups include, but are not limited to, African American, Jamaican, Haitian, Nigerian, Ethiopian, and Somali. The category also includes groups such as Ghanaian, South African, Barbadian, Kenyan, Liberian, Bahamian, etc.

• Hispanic or Latino: The category “Hispanic or Latino” includes all individuals who identify with one or more nationalities or ethnic groups originating in Mexico, Puerto Rico, Cuba, Central and South American, and other Spanish cultures. Examples of these groups include, but are not limited to, Mexican or Mexican American, Puerto Rican, Cuban, Salvadoran, Dominican, and Colombian. The category also includes groups such as Guatemalan, Honduran, Spaniard, Ecuadorian, Peruvian, Venezuelan, etc.

• Middle Eastern or North African: The category “Middle Eastern or North African” includes all individuals who identify with one or more nationalities or ethnic groups originating in the Middle East or North Africa. Examples of these groups include, but are not limited to, Lebanese, Iranian, Egyptian, Syrian, Moroccan, and Israeli. The category also includes groups such as Algerian, Iraqi, Kurdish, Tunisian, Chaldean, Assyrian, etc.

• Native Hawaiian or Pacific Islander: The category “Native Hawaiian or Pacific Islander” includes all individuals who identify with one or more nationalities or ethnic groups originating in Hawaii, Guam, Samoa, or other Pacific Islands. Examples of these groups include, but are not limited to, Native Hawaiian, Samoan, Chamorro, Tongan, Fijian, and Marshallese. The category also includes groups such as Palauan, Tahitian, Chuukese, Pohnpeian, Saipanese, Yapese, etc.

• White: The category “White” includes all individualswho identify with one or more nationalities or ethnic groups originating in Europe. Examples of these groups include, but are not limited to, German, Irish, English, Italian, Polish, and French. The category also includes groups such as Scottish, Norwegian, Dutch, Slavic, Cajun, Roma, etc.

E. Conclusion

This Notice is a request for the public to comment on the initial proposals of the Working Group. None of the initial proposals have been adopted, and no interim decisions have been made concerning them. OMB can modify or reject any of the proposals, and OMB has the option of making no changes. The initial proposals are published in this Notice because OMB believes that they are worthy of public discussion and that OMB and the Working Group's further and continuing deliberations will benefit from obtaining the public's views on the proposals. OMB plans to complete revisions to SPD 15 no later than Summer 2024.

Richard L. Revesz,
Administrator, Office of Information and Regulatory Affairs.

[FR Doc. 2023-01635 Filed 1-26-23; 8:45 am]

BILLING CODE 3110-01-P